DEPARTMENT OF THE INTERIOR

National Park Service

[NPS-WASO-NAGPRA-NPS0037477; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and associated funerary objects and has determined that there is a cultural affiliation between the human remains and associated funerary objects and Indian Tribes or Native Hawaiian organizations in this notice. The human remains and associated funerary objects were removed from an unknown county in CA.

DATES: Repatriation of the human remains and associated funerary objects in this notice may occur on or after March 29, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the inventory or related records held by the University of California, Riverside.

Description

Human remains representing, at minimum, one individual were removed from an unknown County in CA. The V. Basinger Collection is believed to have been donated to the University of California, Riverside in the 1960s. The collection is approximately 28 banker's boxes in size and contains about 600 items. The cremated remains of at least one Native American ancestor are housed in six clay vessels in the collection. In his 2002 NAGPRA inventory, Dr. Phil Wilke of the UCR Anthropology Department, noted that the collection had been in the department since at least 1969. Through archival research, NAGPRA Staff uncovered information related to a professor of entomology, Dr. Almon Jay Basinger, who taught at UCR from 1923-196. Dr. Basinger was married to Vera Basinger (Lewis) who passed away in 1950. According to historical census data, Vera Basinger lived in Pima County, AZ, in her early life on her family's farm. NAGPRA Program Staff believe that the V. Basinger Collection was composed mostly of Vera's personal collection and was donated by Dr. Almon Basinger to UCR after her death. Collection records list Arizona (Gila Bend, Rillito, Chiricahua Mountains) and Riverside, California for small a portion of the collection, while the rest is broadly un-provenienced. In a student paper likely from the 1970s, a student conducted an osteological analysis of the cremated remains yielding information about the possible method of cremation and noting that the individual was a young, Native American man from the “Southern California desert”. The only documentation associated with the collection was a singular black and white photograph of four people washing pottery at what appears to be an archeological site. Writing on the reverse of the photograph appears to read “Washing pottery at Puyé, 1916 New Mexico”. The items in the collection seem to be from different locales in the American Southwest and Southern California and are not all from the burial site where the cremation was reportedly removed from. The burial site was likely in either Riverside, Imperial, San Diego, or San Bernardino Counties. Through consultation and review of the funerary objects with various southern California/Arizona Tribes it was determined that the individual was most likely either Cahuilla or Yaqui. The six associated funerary objects are six clay vessels (ollas).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical information, historical information, and expert tribal opinion.

Determinations

Pursuant to NAGPRA and its implementing regulations, and after consultation with the appropriate Indian Tribes and Native Hawaiian organizations, the University of California, Riverside has determined that:

• The human remains described in this notice represent the physical remains of one individual of Native American ancestry.

• The six objects described in this notice are reasonably believed to have been placed with or near individual human remains at the time of death or later as part of the death rite or ceremony.

• There is a relationship of shared group identity that can be reasonably traced between the human remains and associated funerary objects described in this notice and the Agua Caliente Band of Cahuilla Indians of the Agua Caliente Indian Reservation, California; Augustine Band of Cahuilla Indians, California; Cabazon Band of Cahuilla Indians (previously listed as Cabazon Band of Mission Indians, California); Cahuilla Band of Indians; Chemehuevi Indian Tribe of the Chemehuevi Reservation, California; Los Coyotes Band of Cahuilla and Cupeno Indians, California; Morongo Band of Mission Indians, California; Pascua Yaqui Tribe of Arizona; Ramona Band of Cahuilla, California; Santa Rosa Band of Cahuilla Indians, California; Torres Martinez Desert Cahuilla Indians, California; and the Twenty-Nine Palms Band of Mission Indians of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 29, 2024. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04091 Filed 2-27-24; 8:45 am]

BILLING CODE 4312-52-P